ENVIRONMENTAL PROTECTION AGENCY

40 CFR Part 180

[EPA-HQ-OPP-2002-0043; FRL-8130-3]

Pesticide Tolerance Nomenclature Changes; Proposed Technical Amendments

AGENCY: Environmental Protection Agency (EPA).

ACTION: Proposed rule; Technical Amendments.

SUMMARY: This document proposes minor technical revisions to terminology of certain commodity terms listed under 40 CFR part 180, subpart A and subpart C. EPA is proposing this action to eventually establish a uniform listing of commodity terms.

DATES: Comments must be received on or before August 18, 2008.

ADDRESSES: Submit your comments, identified by docket identification (ID) number EPA-HQ-OPP-2002-0043, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2002-0043. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov web site to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

FOR FURTHER INFORMATION CONTACT: Stephen Schaible, Registration Division (7505P), Office of Pesticide Programs, Environmental Protection Agency, 1200 Pennsylvania Ave., NW., Washington, DC 20460-0001; telephone number: (703) 308-9362; fax number: (703) 305-6920; e-mail address: schiable.stephen@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111), e.g., agricultural workers; greenhouse, nursery, and floriculture workers; farmers.

• Animal production (NAICS code 112), e.g., cattle ranchers and farmers, dairy cattle farmers, livestock farmers.

• Food manufacturer (NAICS code 311), e.g., agricultural workers; farmers; greenhouse, nursery, and floriculture workers; ranchers; pesticide applicators.

• Pesticide manufacturer (NAICS code 32532), e.g., agricultural workers; commercial applicators; farmers; greenhouse, nursery, and floriculture workers; residential users.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in [insert appropriate cite to either another unit in the preamble or a section in a rule]. If you have any questions regarding the applicability of this action to a particular entity, consult the person listed under FOR FURTHER INFORMATION CONTACT.

B. What Should I Consider as I Prepare My Comments for EPA?

1. Docket. EPA has established a docket for this action under docket identification (ID) number EPA-HQ-OPP-2002-0043. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Tips for preparing your comments. When submitting comments, remember to:

i. Identify the document by docket ID number and other identifying information (subject heading,Federal Register date, and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What Action is the Agency Taking?

EPA's Office of Pesticide Programs (OPP) has developed a commodity vocabulary data base entitled “Food and Feed Commodity Vocabulary.” The data base was developed to consolidate all the major OPP commodity vocabularies into one standardized vocabulary. As a result, all future pesticide tolerances issued under 40 CFR part 180 will use the “preferred commodity term” as listed in the aforementioned data base. Previously, seven documents in a series of documents revising the terminology of commodity terms currently in tolerances in 40 CFR part 180 have been published. Final Rules, revising pesticide tolerance nomenclature, were published in the Federal Register on June 19, 2002 (67 FR 41802) (FRL-6835-2); June 21, 2002 (67 FR 42392) (FRL-7180-1); July 1, 2003 (68 FR 39428) (FRL-7308-9) and (68 FR 39435)(FRL-7316-9); December 13, 2006 (71 FR 74802) (FRL-8064-3); and September 18, 2007 (72 FR 53134)(FRL-8126-5); corrected on October 31, 2007 (72 FR 61535)(FRL-8151-4).

This document proposes changes to certain commodity terminology in 40 CFR part 180. EPA is proposing to make the following format changes to the terminology of the commodity terms in 40 CFR part 180 to the extent the terminology is not already in this format:

1. The first letter of the commodity term is capitalized. All other letters, including the first letter of proper names, are changed to lower case.

2. Commodity terms are listed in the singular, although there are the following exceptions: leaves, roots, tops, greens, hulls, vines, fractions, shoots, and byproducts.

3. Commodity terms are amended so that generic terms precede modifying terms. Example - Aspirated grain fractions would be replaced with Grain, aspirated fractions.

4. Abbreviated terms would be replaced with the appropriate commodity terms. Example - Cattle, mbyp would be replaced with Cattle, meat byproducts.

5. Crop group terms would be revised to standardize with the “Food and Feed Vocabulary”. Examples are:

• Vegetable, leafy greens, except Brassica, group 4 would be replaced with Vegetable, leafy, except brassica, group 4.

• Legume vegetables, succulent or dried (except soybean) would be replaced with Vegetable, legume, group 6, except soybean.

• Vegetable, legume, edible podded, subgroup would be replaced with Vegetable, legume, edible podded, subgroup 6A.

B. Additional Changes

In addition to format changes to the commodity terms, this document also proposes many revisions to the commodity terms in 40 CFR part 180, subpart C. These proposed revisions, if adopted, would replace certain commodity terms that are no longer used by EPA with the appropriate matching term in the “Food and Feed Vocabulary.” For example:

1. Carrot would be replaced with Carrot, roots.

2. Cotton, oil and Peanut oil would be replaced with Cotton, refined oil and Peanut, refined oil.

3. Cacao and Cacao bean would be replaced with Cacao bean, bean.

4. Coffee and Coffee, bean would be replaced with Coffee, bean, green.

5. Coffee, postharvest would be replaced with Coffee, bean, roasted bean, postharvest.

6. Citron would be replaced with Citron, citrus.

7. Corn, field, grain, flour would be replaced with Corn, field, flour.

8. Date would be replaced with Date, dried fruit.

9. Grass, fodder would be replaced with Grass, straw.

10. Guar bean would be replaced with Guar, seed.

11. Hop would be replaced with Hop, dried cones.

12. Millet, fodder would be replaced with Millet, straw. Milo, grain; Milo, fodder; and Milo, forage would be replaced with Sorghum, grain, grain; Sorghum, grain, stover; and Sorghum, grain, forage.

13. Mulberry, Indian would be replaced with Noni.

14. Oat milling fractions (except flour) and Oat, milled fractions (except flour) would be replaced with Oat, groats/rolled oats.

15. Pea, vines would be replaced with Pea, field, vines.

16. Peavine, hay would be replaced with Pea, field, hay.

17. Prickly pear cactus, fruit and Prickly pear cactus, pads would be replaced with Cactus, fruit and Cactus, pads.

18. Red beet roots and Red beet tops would be replaced with Beet, garden, roots and Beet, garden tops.

19. Soybean, aspirated grain fractions would be replaced with Grain, aspirated fractions.

20. Wheat, grain, milled byproducts and Wheat, milled feed fractions would be replaced with Wheat, milled byproducts.

In certain instances, more than one replacement commodity term exists in the “Food and Feed Vocabulary for the older commodity terms in 40 CFR part 180, subpart C. For example, the preferred commodity terms for Grass are Grass, forage and Grass, hay. Certain revisions included in this document were made by choosing a replacement commodity term from the “Food and Feed Vocabulary“ based on the old commodity term and existing tolerances for related food or feed commodities. These changes are specific to the amended sections and paragraphs in 40 CFR part 180, supbart C. For example:

In § 180.154(a) and § 180.169(a)(1) the commodity term Alfalfa would be replaced with Alfalfa, forage. Alfalfa, forage and Alfalfa, hay are preferred commodity terms for Alfalfa. Alfalfa, forage was chosen to replace Alfalfa since tolerances are established for Alfalfa, hay.

In § 180.121(e) Beet (with or without tops) would be replaced with Beet, garden roots. Beet, garden, roots and Beet, garden, tops are the preferred commodity terms for Beet (with or without tops). Beet, garden roots was chosen since a tolerance is established for Beet, garden, tops. In § 180.408(a) Beet, garden would be replaced with Beet, garden, roots. A tolerance is established for Beet, garden, tops.

In § 180.154(a) Birdsfoot trefoil would be replaced with Trefoil, forage. Trefoil, forage and Trefoil, hay are the preferred commodity terms for Birdsfoot trefoil. Trefoil forage was chosen since a tolerance is established for Trefoil, hay.

In § 180.154(a) and § 180.169(a)(1) Clover would be replaced with Clover, forage. Clover, forage and Clover, hay are preferred commodity terms for Clover. Clover, forage was chosen since tolerances are established for Clover, hay.

In § 180.121(a), § 180.204(a) and § 180.288(a), the commodity term Corn, forage would be replaced with Corn, field, forage. Corn, field, forage and Corn, sweet, forage are the preferred commodity terms for Corn, forage. Since there are no tolerances for sweet corn; Corn, field, forage was chosen to replace Corn, forage. In § 180.412(a) the commodity term Corn, field, forage was chosen to replace Corn, forage since a tolerance is established for Corn, sweet, forage.

In § 180.111(a)(1) and § 180.169(a)(1) the commodity term Grass would be replaced with Grass, forage. The preferred terms for Grass are Grass, forage and Grass, hay. Grass, forage was chosen since tolerances are established for Grass, hay.

In § 180.121(e) Rutabagas (with or without tops) would be replaced with Rutabaga, roots. Rutabaga, roots and Rutabaga, tops are the preferred terms for Rutabagas (with or without tops). Rutabaga, roots was chosen since a tolerance is established for Rutabaga tops.

In § 180.342(a)(2) Turnip would be replaced with Turnip, roots. The preferred terms for Turnip are Turnip, roots and Turnip, greens. Turnip, roots was chosen since tolerances are established for Turnip, greens. In § 180.121(e) Turnip (with or without tops) would be replaced with Turnip, roots since a tolerance is established for Turnip, greens.

This document also proposes to delete certain terms that are not needed to identify the tolerance commodities.

Examples:

1. The term Peanut, meat (hulls removed) would be changed to Peanut.

2. The term Banana, pulp (no peel) would be changed to Banana, pulp.

3. The commodity term Peach (includes nectarines) would be changed to Peach; the “Food and Feed Vocabulary” uses the term Peach to include peach and nectarines.

4. The terms Horseradish, roots and Potato, tuber would be changed to Horseradish and Potato.

5. The terms Garlic, bulb and Garlic (bulb) would be changed to Garlic.

6. The terms Plum (fresh) and Pineapple, fresh would be changed to Plum and Pineapple.

III. Statutory and Executive Order Reviews

This document proposes technical amendments to the Code of Federal Regulations which have no substantive impact on the underlying regulations, and does not otherwise impose or amend any requirements. As such, the Office of Management and Budget (OMB) has determined that a technical amendment is not a “significant regulatory action” subject to review by OMB under Executive Order 12866, entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). The Regulatory Flexibility Act (RFA) (5 U.S.C. 601 et seq.) generally requires an agency to prepare a regulatory flexibility analysis of any rule subject to notice and comment rulemaking requirements under the Administrative Procedure Act or any other statute unless the agency certifies that the rule will not have a significant impact on a substantial number of small entities. Small entities include small businesses, small organizations, and small governmental organizations. After considering the economic impacts of today's proposed rule on small entities, I certify that this action will not have a significant economic impact on a substantial number of small entities. This action proposes technical amendments to the Code of Federal Regulations which have no substantive impact on the underyling regulations. These technical amendments will not have any negative economic impact on any entities, including small entities. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of section 408(n)(4) of the FFDCA. For these same reasons, the Agency has determined that this proposed rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pest, Reporting and recordkeeping requirements.

Dated: June 4, 2008.
Debra Edwards,
Director, Office of Pesticide Programs.

Therefore, 40 CFR chapter I, part 180 is proposed to be amended as follows:

PART 180

—[AMENDED]

1. The authority citation for part 180 continues to read as follows:

Authority: 21 U.S.C. 321(q), 346a, and 371.

2. Section 180.1 is amended by revising the table to paragraph (g) to read as follows:

§ 180.1 Definitions and interpretations.

* * * * *

(g) * * *

A | B
Alfalfa | Medicago sativa L. Subsp. sativa, (alfalfa, lucerne); Onobrychis viciifolia Scop. (sainfoin, holy clover, esparcet); and Lotus corniculatus L. (trefoil); and varieties and/or hybrids of these.
Banana | Banana, plantain.
Bean | Cicer arietinum (chickpea, garbanzo bean); Lupinus spp. (including sweet lupine, white sweet lupine, white lupine, and grain lupine). Phaseolus spp. (including kidney bean, lima bean, mung bean, navy bean, pinto bean, snap bean, and waxbean; Vicia faba (broad bean, fava bean); Vigna spp. (including asparagus bean, blackeyed pea and cowpea).
Bean, dry | All beans above in dry form only.
Bean, succulent | All beans above in succulent form only.
Blackberry | Rubus eubatus (including bingleberry, black satin berry, boysenberry Cherokee blackberry, Chesterberry, Cheyenne blackberry, coryberry, darrowberry, dewberry, Dirksen thornless berry, Himalayaberry, hullberry, Lavacaberry, lowberry, Lucretiaberry, mammoth blackberry, marionberry, nectarberry, olallieberry, Oregon evergreen berry, phenomenalberry, rangerberry, ravenberry, rossberry, Shawnee blackberry, and varieties and/or hybrids of these).
Broccoli | Broccoli, chinese broccoli (gia lon, white flowering broccoli).
Cabbage | Cabbage, Chinese cabbage (tight-heading varieties only).
Caneberry | Rubus spp. (including blackberry); Rubus caesius (youngberry); Rubus loganbaccus (loganberry); Rubus idaeus (red and black raspberry); cultivars, varieties, and/or hybrids of these.
Celery | Celery, Florence fennel (sweet anise, sweet fennel, finochio) (fresh leaves and stalks only).
Cherry | Cherry, sweet, and cherry, tart.
Endive | Endive, escarole.
Fruit, citrus | Grapefruit, lemon, lime, orange, tangelo, tangerine, citrus citron, kumquat, and hybrids of these.
Garlic | Garlic, great headed; garlic, and serpent garlic.
Lettuce | Lettuce, head; and lettuce, leaf
Lettuce, head | Lettuce, head; crisphead varieties only
Lettuce, leaf | Lettuce, leaf; cos (romaine), butterhead varieties
Marjoram | Origanum spp. (includes sweet or annual marjoram, wild marjoram or oregano, and pot marjoram).
Melon | Muskmelon, including hybrids and/or varieties of Cucumis melo (including true cantaloupe, cantaloupe, casaba, Santa Claus melon, crenshaw melon, honeydew melon, honey balls, Persian melon, golden pershaw melon, mango melon, pineapple melon, snake melon); and watermelon, including hybrids and/or varieties of (Citrullus spp.).
Muskmelon | Cucumis melo (includes true cantaloupe, cantaloupe, casaba, Santa Claus melon, crenshaw melon, honeydew melon, honey balls, Persian melon, golden pershaw melon, mango melon, pineapple melon, snake melon, and other varieties and/or hybrids of these.)
Onion | Bulb onion; green onion; and garlic.
Onion, bulb | Bulb onion; garlic; great headed garlic; serpent garlic; Chinese onion; pearl onion; potato onion; and shallot, bulb.
Onion, green | Green onion; lady's leek; leek; wild leek; Beltsville bunching onion; fresh onion; tree onion, tops; Welsh onion; and shallot, fresh leaves.
Peach | Peach, nectarine
Pea | Cajanus cajan (includes pigeon pea); Cicer spp. (includes chickpea and garbanzo bean); Lens culinaris (lentil); Pisum spp. (includes dwarf pea, garden pea, green pea, English pea, field pea, and edible pod pea). [Note: A variety of pesticide tolerances have been previously established for pea and/or bean. Chickpea/garbanzo bean is now classified in both the bean and the pea categories. For garbanzo bean/chickpea only, the highest established pea or bean tolerance will apply to pesticide residues found in this commodity.]
Pea, dry | All peas in dry form only.
Pea, succulent | All peas in succulent form only.
Pepper | All varieties of pepper including pimento and bell, hot, and sweet pepper.
Radish, oriental, roots | Raphanus sativus var. longipinnatus (roots and tops), including Chinese or Japanese radish (both white and red), winter radish, daikon, lobok, lo pak, and other cultivars and/or hybrids of these.
Radish, oriental, tops) | Raphanus sativus var. longipinnatus (roots and tops), including Chinese or Japanese radish (both white and red), winter radish, daikon, lobok, lo pak, and other cultivars and/or hybrids of these.
Rapeseed | Brassica napus, B. campestris, and Crambe abyssinica (oilseed-producing varieties only which include canola and crambe.)
Raspberry | Rubus spp. (including bababerry; black raspberry; blackcap; caneberry; framboise; frambueso; himbeere; keriberry; mayberry; red raspberry; thimbleberry; tulameen; yellow raspberry; and cultivars, varieties, and/or hybrids of these).
Sorghum, grain, grain | Sorghum spp. [sorghum, grain, sudangrass (seed crop), and hybrids of these grown for its seed].
Sorghum, forage, stover | Sorghum spp. [sorghum, forage; sorghum, stover; sudangrass, and hybrids of these grown for forage and/or stover.
Squash | Pumpkin, summer squash, and winter squash.
Sugar apple | Annona squamosa L. (sugar apple, sweetsop, anon), and its hybrid A. squamosa L. x A. cherimoya M. (atemoya). Also A. reticulata L. (true custard apple).
Squash, summer | Fruits of the gourd (Cucurbitaceae) family that are consumed when immature, 100% of the fruit is edible either cooked or raw, once picked it cannot be stored, has a soft rind which is easily penetrated, and if seeds were harvested they would not germinate; e.g., Cucurbita pepo (i.e., crookneck squash, straightneck squash, scallop squash, and vegetable marrow); Lagenaria spp. (i.e., spaghetti squash, hyotan, cucuzza); Luffa spp. (i.e., hechima, Chinese okra); Momordica spp. (i.e., bitter melon, balsam pear, balsam apple, Chinese cucumber); Sechium edule (chayote); and other cultivars and/or hybrids of these.
Sweet potato | Sweet potato, yam.
Tangerine | Tangerine (mandarin or mandarin orange); tangelo, tangor, and other hybrids of tangerine with other citrus.
Tomato | Tomato, tomatillo.
Turnip tops or turnip greens | Broccoli raab (raab, raab salad), hanover salad, turnip tops (turnip greens).
Wheat | Wheat, triticale.

* * * * *

§ 180.368 [Amended]

3. Section 180.368 is amended by removing from the table in pararaph (a)(1) the entry for “Milo, grain.”

§ 180.412 [Amended]

4. Section 180.412 is amended by removing from the table in pararaph (a) the entry for “Potato, granules.”

PART 180

—[AMENDED]

5. Part 180 is amended as follows:

In Section | In paragraph | Remove the term | Add in its place the term
180.106 | (a)(1) table | Grass crops (other than Bermuda grass) | Grass, forage, except bermudagrass
180.111 | (a)(1) table | Date | Date, dried fruit
180.111 | (a)(1) table | Grass | Grass, forage
180.111 | (a)(1) table | Hop | Hop, dried cones
180.111 | (a)(1) table | Lupine, seed | Lupin, seed
180.111 | (a)(1) table | Peavine, hay | Pea, field, hay
180.111 | (a)(1) table | Shallots | Shallot, bulb
180.117 | table | Bean, castor | Castorbean, seed
180.121 | (a) table | Corn, forage | Corn, field, forage
180.121 | (a) table | Hop | Hop, dried cones
180.121 | (a) table | Soybean | Soybean, seed
180.121 | (e) table | Beet (with or without tops) | Beet, garden, roots
180.121 | (e) table | Rutabagas (with or without tops) | Rutabaga, roots
180.121 | (e) table | Turnip (with or without tops) | Turnip, roots
180.122 | (a) table | Sorghum | Sorghum, grain, grain
180.129 | table | Citron | Citron, citrus
180.153 | (a)(1) table | Potato, sweet | Sweet potato, roots
180.153 | (a)(1) table | Sheep, meat (fat basis) | Sheep, meat
180.153 | (a)(1) table | Sheep, meat byproducts (fat basis) | Sheep, meat byproducts
180.154 | (a) table | Alfalfa | Alfalfa, forage
180.154 | (a) table | Birdfoot trefoil | Trefoil, forage
180.154 | (a) table | Clover | Clover, forage
180.169 | (a)(1) table | Alfalfa | Alfalfa, forage
180.169 | (a)(1) table | Clover | Clover, forage
180.169 | (a)(1) table | Grass | Grass, forage
180.169 | (a)(1) table | Pea (with pods) | Pea, edible podded
180.169 | (a)(1) table | Prickly pear cactus, fruit | Cactus, fruit
180.169 | (a)(1) table | Prickly pear cactus, pads | Cactus, pad
180.169 | (c) table | Dill, fresh | Dillweed, fresh leaves
180.173 | (a) table | Cattle, meat (fat basis) | Cattle, meat
180.176 | (a) table | Banana, pulp (no peel) | Banana, pulp
180.176 | (a) table | Corn grain (except popcorn grain) | Corn, field, grain
180.176 | (a) table | Rye, milled feed fraction | Rye, bran
180.176 | (a) table | Wheat, milled feed fractions | Wheat, milled byproducts
180.204 | (a) table | Corn, forage | Corn, field, forage
180.205 | (a) table | Cacao bean | Cacao bean, bean
180.205 | (a) table | Guar | Guar, seed
180.206 | (a) table | Hop | Hop, dried cones
180.215 | (a)(1) table | Hop | Hop, dried cones
180.227 | (a)(1) table | Cotton, meal | Cottonseed, meal
180.253 | (a) table | Grass, Bermuda | Bermudagrass, forage
180.253 | (a) table | Pea, vines | Pea, field, vines
180.288 | (a) table | Corn, forage | Corn, field, forage
180.342 | (a)(2) table | Legume vegetables, succulent or dried (except soybean) | Vegetable, legume, group 6, except soybean
180.342 | (a)(2) table | Peanut oil | Peanut, refined oil
180.342 | (a)(2) table | Turnip | Turnip, roots
180.353 | (b) table | Red beet roots | Beet, garden, roots
180.353 | (b) table | Red beet tops | Beet, garden, tops
180.364 | (a) table | Cacao bean | Cacao bean, bean
180.364 | (a) table | Coffee, bean | Coffee, bean, green
180.364 | (a) table | Date | Date, dried fruit
180.368 | (a)(1) table | Millet, fodder | Millet, straw
180.368 | (a)(1) table | Milo, fodder | Sorghum, grain, stover
180.368 | (a)(1) table | Milo, forage | Sorghum, grain, forage
180.368 | (a)(3) table | Garlic, bulb | Garlic
180.379 | (a)(1) table | English walnut | Walnut
180.381 | (a) table | Date | Date, dried fruit
180.399 | (a)(1) table | Bean, dried, vine hay | Cowpea, hay
180.399 | (c) table | Chinese mustard | Mustard greens
180.408 | (a) table | Beet, garden | Beet, garden, roots
180.410 | (a) table | Pineapple, fresh | Pineapple
180.411 | (c)(2) table | Coffee, bean | Coffee, bean, green
180.412 | (a) table | Corn fodder | Corn, field, stover
180.412 | (a) table | Corn forage | Corn, field, forage
180.414 | (a)(1) table | Garlic, bulb | Garlic
180.419 | (a)(2) table | Oat milling fractions (except flour) | Oat, groats/rolled oats
180.420 | (c) table | Hop | Hop, dried cones
180.428 | (a)(1) table | Grass, fodder | Grass, straw
180.431 | (a) table | Oat, milled fractions (except flour) | Oat, groats/rolled oats
180.435 | (a)(1) table | Cotton, oil | Cotton, refined oil
180.436 | (a)(1) table | Vegetable, leafy greens, except Brassica, group 4 | Vegetable, leafy, except brassica, group 4
180.438 | (a)(1) table | Corn, field, grain, flour | Corn, field, flour
180.438 | (a)(2) table | Corn, field, grain, flour | Corn, field, flour
180.448 | (a) table | Hop | Hop, dried cones
180.450 | (a) table | Sorghum, forage, hay | Sorghum, forage
180.466 | (a) table | Cotton, oil | Cotton, refined oil
180.474 | (a)(1) table | Peach (includes nectarine) | Peach
180.491 | (a)(1) table | Cocoa bean, bean | Cacao bean, roasted bean
180.498 | (a)(2) table | Horseradish, roots | Horseradish
180.515 | (a) table | Cacao | Cacao bean, bean
180.515 | (a) table | Coffee | Coffee, bean, green
180.515 | (a) table | Date | Date, dried fruit
180.515 | (a) table | Grain, cereal, forage (excluding corn and sorghum) | Grain, cereal, forage, fodder and straw group 16, except corn and sorghum; forage
180.515 | (a) table | Kava, Kava | Kava, roots
180.515 | (a) table | Mulberry, Indian | Noni
180.515 | (a) table | Soursop, group | Soursop
180.515 | (a) table | Tea | Tea, dried
180.515 | (a) table | Wasabia, roots | Wasaba, roots
180.516 | (a) table | Carrot | Carrot, roots
180.516 | (a) table | Peanut, meat (hulls removed) | Peanut
180.516 | (a) table | Yam, true | Yam, true, tuber
180.532 | (a)(1) table | Carrot | Carrot, roots
180.564 | (a) table | Soybean, aspirated grain fractions | Grain, aspirated fractions
180.565 | (a) table | Coffee \1\ | Coffee, bean, green \1\
180.565 | (a) table | Soybean, aspirated grain fractions | Grain, aspirated fractions
180.567 | (a)(2) table | Potato, tuber | Potato
180.568 | (a) table | Garlic (bulb) | Garlic
180.569 | (a)(2) table | Plum (fresh) | Plum
180.573 | (a)(1) table | Soybean, aspirated grain fraction | Grain, aspirated fractions
180.575 | (a)(1) table | Coffee, postharvest | Coffee, bean, roasted bean, postharvest
180.579 | (a)(1) table | Garlic, bulb | Garlic
180.582 | (a)(1) table | Vegetable, legume, edible podded, subgroup | Vegetable, legume, edible podded, subgroup 6A
180.584 | (a) table | Hop¹ | Hop, dried cones¹
180.615 | (d) table | Wheat, grain, milled byproducts | Wheat, milled byproducts

[FR Doc. E8-13368 Filed 6-17-08; 8:45 am]

BILLING CODE 6560-50-S